ENVIRONMENTAL PROTECTION AGENCY

[FRL-9619-2]

National Advisory Council for Environmental Policy and Technology; Meeting

AGENCY: Environmental Protection Agency (EPA).

ACTION: Notice of Advisory Committee Meeting.

SUMMARY: Under the Federal Advisory Committee Act, Public Law 92463, EPA gives notice of a public meeting of the National Advisory Council for Environmental Policy and Technology (NACEPT). NACEPT provides advice to the EPA Administrator on a broad range of environmental policy, technology, and management issues. NACEPT members represent academia, industry, non-governmental organizations, and local, state, and tribal governments. The purpose of this meeting is to begin developing recommendations to the Administrator regarding actions that EPA can take in response to the National Academy of Sciences Report on “Incorporating Sustainability in the U.S. Environmental Protection Agency.” A copy of the agenda for the meeting will be posted at http://www.epa.gov/ofacmo/nacept/cal-nacept.htm.

DATES: NACEPT will hold a two-day public meeting on Monday, February 13, 2012, from 9 a.m. to 5:30 p.m. (EST) and Tuesday, February 14, 2012, from 8:30 a.m. to 2 p.m. (EST).

ADDRESSES: The meeting will be held at the EPA Potomac Yard Conference Center, One Potomac Yard, 2777 S. Crystal Dr., Arlington, VA 22202.

FOR FURTHER INFORMATION CONTACT: Mark Joyce, Acting Designated Federal Officer, joyce.mark@epa.gov, (202) 564-2130, U.S. EPA, Office of Federal Advisory Committee Management and Outreach (1601M), 1200 Pennsylvania Avenue NW., Washington, DC 20460.

SUPPLEMENTARY INFORMATION: Requests to make oral comments or to provide written comments to NACEPT should be sent to Eugene Green at green.eugene@epa.gov by Monday, February 6, 2012. The meeting is open to the public, with limited seating available on a first-come, first-served basis. Members of the public wishing to attend should contact Eugene Green at green.eugene@epa.gov or (202) 564-2432 by February 6, 2012.

Meeting Access: Information regarding accessibility and/or accommodations for individuals with disabilities, should be directed to Eugene Green at the email address or phone number listed above. To ensure adequate time for processing, please make requests for accommodations at least 10 days prior to the meeting.

Dated: January 4, 2012.
Mark Joyce,
Acting Designated Federal Officer.

[FR Doc. 2012-975 Filed 1-18-12; 8:45 am]

BILLING CODE 6560-50-P